SECURITIES AND EXCHANGE COMMISSION

[File No. 500-1]

In the Matter of Bergamo Acquisition Corp.; Order of Suspension of Trading

August 2, 2013.

It appears to the Securities and Exchange Commission that there is a lack of current and accurate information concerning the securities of Bergamo Acquisition Corp. (“Bergamo”). Bergamo is a Delaware corporation based in Henderson, Nevada, and its stock is currently quoted on OTC Link, operated by OTC Markets Group, Inc. under the symbol BGMO. Questions have arisen concerning the adequacy and accuracy of press releases and other public statements concerning Bergamo's business operations and financial condition.

The Commission is of the opinion that the public interest and the protection of investors require a suspension of trading in the securities of Bergamo.

Therefore, it is ordered, pursuant to Section 12(k) of the Securities Exchange Act of 1934, that trading in the securities of the above-listed company is suspended for the period from 9:30 a.m. EDT, on August 2, 2013 through 11:59 p.m. EDT, on August 15, 2013.

By the Commission.
Jill M. Peterson,
Assistant Secretary.

[FR Doc. 2013-19044 Filed 8-2-13; 4:15 pm]

BILLING CODE 8011-01-P